DEPARTMENT OF TRANSPORTATION

Federal Aviation Administration

Notice of Intent To Rule on Application 04-03-C-00-TVC To Impose and Use the Revenue From a Passenger Facility Charge (PFC) at Cherry Capital Airport, Traverse City, MI

AGENCY: Federal Aviation Administration (FAA), DOT.

ACTION: Notice of intent to rule on application.

SUMMARY: The FAA proposes to rule and invites public comment on the application to impose and use the revenue from a PFC at Cherry Capital Airport under the provisions of the 49 U.S.C. 40117 and Part 158 of the Federal Regulations (14 CFR Part 158).

DATES: Comments must be received on or before July 9, 2004.

ADDRESSES: Comments on this application may be mailed or delivered in triplicate to the FAA at the following address: Detroit Airports District Office, 11677 South Wayne Road, Suite 107, Romulus, Michigan 48174.

In addition, one copy of any comments submitted to the FAA must be mailed or delivered to Mr. Stephen Cassens, Airport Director of the Northwest Regional Airport Commission at the following address: Northwest Regional Airport Commission 1330 Airport Access Road, Traverse City, Michigan 49686.

Air carriers and foreign air carriers may submit copies of written comments previously provided to the Northwest Regional Airport Commission under § 158.23 of Part 158.

FOR FURTHER INFORMATION CONTACT: Mr. Jason Watt, Program Manager, Federal Aviation Administration, Detroit Airports District Office, 11677 South Wayne Road, Suite 107, Romulus, Michigan 48174 (734-229-2906). The application may be reviewed in person at this same location.

SUPPLEMENTARY INFORMATION: The FAA proposes to rule and invites public comment on the application to impose and use the revenue from a PFC at Cherry Capital Airport under the provisions of 49 U.S.C. 40117 and Part 158 of the Federal Aviation Regulations (14 CFR Part 158).

On April 8, 2004, the FAA determined that the application to impose and use the revenue from a PFC submitted by the Northwest Regional Airport Commission was substantially complete within the requirements of § 158.25 of Part 158. The FAA will approve or disapprove the application, in whole or in part, no later than July 7, 2004.

The following is a brief overview of the application.

Level of the proposed PFC: $4.50.

Proposed charge effective date: January 1, 2018.

Proposed charge expiration date: April 1, 2019.

Total estimated PFC revenue: $1,190,785.

Brief description of proposed project: Environmental Assessment for New Terminal Building and Associated Projects; Pre-design for South Terminal Complex; Airport Rescue Fire Fighting (ARFF) Vehicle Procurement; Security Fencing, South Building Area; Clearing and Grubbing New Airline Terminal Complex; Reimbursement of Costs Associated with the Preparation of Previous PFC Applications; Reimbursement of Charges for Audits Performed on the PFC Program; Construct Water Main and Sanitary Sewer Utilities to New Terminal Site (Part A and B); Natural Gas Service to New Terminal, Proposed ARFF Building and Snow Removal Equipment Building; Install Multi-user Flight Inspection Display System, Premise Wiring and Public Address System; Service Road and Utilities; Design of Taxiway G, Perimeter Road, and Airport Layout Plan Update; Design of Terminal Baggage and Passenger Screening; Landscaping and Irrigation South Terminal Project; Perimeter Road; Airport Entrance Drive; Passenger Loading Bridges; Furnish and Install Part 1542 Computer Controlled Access System; Airport Boundary Survey and Update Exhibit “A” Property Map; and Construct Parallel Taxiway “G”.

Class or classes of air carriers, which the public agency has requested not be required to collect PFCs: Part 135, Air Taxi/Commercial Operators filing FAA Form 1800-31.

Any person may inspect the application in person at the FAA office listed above under FOR FURTHER INFORMATION CONTACT.

In addition, any person may, upon request, inspect the application, notice, and other documents germane to the application in person at the Northwest Regional Airport Commission.

Issued in Des Plaines, Illinois, on June 1, 2004.
Sandy Nazar,
Acting Manager, Planning and Programming Branch, Airports Division, Great Lakes Region.

[FR Doc. 04-12989 Filed 6-8-04; 8:45 am]

BILLING CODE 4910-13-M